NATIONAL FOUNDATION ON THE ARTS AND THE HUMANITIES

National Council on the Arts 176th Meeting

AGENCY: National Endowment for the Arts, National Foundation on the Arts and Humanities.

ACTION: Notice of meeting.

SUMMARY: Pursuant to section 10(a)(2) of the Federal Advisory Committee Act (Pub. L. 92-463), as amended, notice is hereby given that a meeting of the National Council on the Arts will be held at the Nancy Hanks Center, 1100 Pennsylvania Avenue NW., Washington, DC 20506.

DATES: June 28, 2012 from 1:00 p.m. to 2:15 p.m. in Room 527. This portion of the meeting will be closed for National Medal of Arts review and recommendations. June 29, 2012 from 9:00 a.m. to 11:30 a.m. (ending times are approximate). This portion of the meeting will be open.

FOR FURTHER INFORMATION CONTACT: Office of Communications, National Endowment for the Arts, Washington, DC 20506, at 202/682-5570.

SUPPLEMENTARY INFORMATION: The meeting on Friday, June 29th will be open to the public on a space available basis. The meeting will begin with opening remarks, swearing in of new Council members, and voting on recommendations for funding and rejection and guidelines, followed by updates by the Chairman. There will also be the following presentations: From 9:45 a.m. to 10:30 a.m.—Citizens' Institute on Rural Design; from 10:30 a.m. to 11:00 a.m.—Association of Children's Museum; from 11:00 a.m. to 11:30 a.m.—NEA National Heritage Fellowships. The meeting will adjourn at 11:30 a.m.

For information about possible webcasting of the open session of this meeting, go to the Podcasts, Webcasts, & Webinars tab at www.arts.gov.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue NW., Washington, DC 20506, 202/682-5532, TTY-TDD 202/682-5429, at least seven (7) days prior to the meeting.

Dated: June 8, 2012.
Kathy Plowitz-Worden,
Panel Coordinator, Office of Guidelines and Panel Operations.

[FR Doc. 2012-14501 Filed 6-13-12; 8:45 am]

BILLING CODE 7537-01-P